DEPARTMENT OF ENERGY

Federal Energy Regulatory commission

[Docket No. RP96-129-012]

Trunkline Gas Company; Notice of Compliance Filing

July 18, 2000.

Take notice that on July 13, 2000, Trunkline Gas company (Trunkline) tendered for filing as part of its FERC Gas Tariff, First Revised Volume No. 1, the following tariff sheet to be effective August 12, 2000:

Fourth Revised Sheet No. 79

Trunkline states that the purpose of this filing is to comply with the Commission's Letter Order dated June 28, 2000 in Docket No. RP96-129-011, 91 FERC ¶ 61,300 (2000). This filing reflects Trunkline's proposal to liberalize the current directional limitations on its TABS-1 transfer service.

Trunkline states that copies of this filing are being served on all affected customers, applicable state regulatory agencies and parties to this proceeding.

Any person desiring to protest this filing should file a protest with the Federal Energy Regulatory Commission, 888 First Street, NE, Washington, DC 20426, in accordance with section 385.211 of the Commission's rules and regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-18504 Filed 7-20-00; 8:45 am]

BILLING CODE 6717-01-M